DEPARTMENT OF COMMERCE

International Trade Administration

[A-602-806, A-570-919]

Postponement of Preliminary Determinations of Antidumping Duty Investigations:Electrolytic Manganese Dioxide from Australia and the People's Republic of China

AGENCY: Import Administration, International Trade Administration, Department of Commerce.

EFFECTIVE DATE: January 15, 2008.

FOR FURTHER INFORMATION CONTACT: Hermes Pinilla (Australia) or Eugene Degnan (the People's Republic of China), AD/CVD Operations, Office 5 or Office 8, respectively, Import Administration, International Trade Administration, U.S. Department of Commerce, 14th Street and Constitution Avenue, NW, Washington, DC 20230; telephone: (202) 482-3477 or (202) 482-0414, respectively.

SUPPLEMENTARY INFORMATION:

Postponement of Preliminary Determinations

On September 17, 2007, the Department of Commerce (the Department) initiated the antidumping duty investigations of electrolytic manganese dioxide from Australia and the People's Republic of China. See Notice of Initiation of Antidumping Duty Investigations: Electrolytic Manganese Dioxide from Australia and the People's Republic of China, 72 FR 52850 (September 17, 2007). The notice of initiation stated that the Department would issue its preliminary determinations for these investigations no later than 140 days after the date of issuance of the initiation, in accordance with section 733(b)(1)(A) of the Tariff Act of 1930, as amended (the Act).

On December 31, 2007, the petitioner, Tronox, LLC, made a timely request pursuant to 19 CFR 351.205(b)(2) and (e) for a 50-day postponement of the preliminary determinations. The petitioner requested postponement of the preliminary determinations in order to allow the Department additional time to do a thorough investigation of the respondents in these investigations.

For the reason identified by the petitioner and because there are no compelling reasons to deny the request, the Department is postponing the deadline for the preliminary determinations under section 733(c)(1)(A) of the Act by 50 days to March 19, 2008. The deadline for the final determinations will continue to be 75 days after the date of the preliminary determinations, unless extended.

This notice is issued and published pursuant to section 733(c)(2) of the Act and 19 CFR 351.205(f)(1).

Dated: January 8, 2008.
David M. Spooner,
Assistant Secretary for Import Administration.

[FR Doc. E8-544 Filed 1-14-08; 8:45 am]

BILLING CODE 3510-DS-S